DEPARTMENT OF THE INTERIOR

National Park Service

[NPS-WASO-NAGPRA-NPS0036759; PPWOCRADN0-PCU00RP14.R50000]

Notice of Inventory Completion: University of Montana, Missoula, MT

AGENCY: National Park Service, Interior.

ACTION: Notice.

SUMMARY: In accordance with the Native American Graves Protection and Repatriation Act (NAGPRA), the University of Montana has completed an inventory of human remains and has determined that there is a cultural affiliation between the human remains and Indian Tribes or Native Hawaiian organizations in this notice. The human remains were removed from McKenzie County, ND.

DATES: Repatriation of the human remains in this notice may occur on or after November 22, 2023.

ADDRESSES: Courtney Little Axe, University of Montana, Missoula, MT 59812, telephone (406) 243-2693 or (406) 243-5660, email courtney.littleaxe@umt.edu.

SUPPLEMENTARY INFORMATION: This notice is published as part of the National Park Service's administrative responsibilities under NAGPRA. The determinations in this notice are the sole responsibility of the University of Montana. The National Park Service is not responsible for the determinations in this notice. Additional information on the determinations in this notice, including the results of consultation, can be found in the inventory or related records held by the University of Montana.

Description

Sometime during the mid-20th century, human remains representing, at minimum, four individuals were removed from McKenzie County, ND, during the Smithsonian River Basin Survey, which preceded the construction of dams in the Upper Missouri River Basin, including Garrison Dam. One individual is represented by an upper jawbone (right juvenile maxilla) with one ochre-stained tooth. Associated records state “PN-29/PN-31, Garrison Dam Survey” (PN numbers appear to represent a field inventory reference system). Two additional individuals are represented by two foot bones whose distinctly different discoloration indicates two different burial contexts. The fourth individual is represented by a mandibular central incisor. Notes associated with the latter three individuals use the same “PN-29/PN-31” reference system. The notes also indicate these human remains had been collected during the Garrison Dam Survey from site “32MZ0001/Crow Flies High” and placed together in a specimen bag, and that a cultural connection existed between the remains and the Hidatsa. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological and geographical.

Determinations

Pursuant to NAGPRA and its implementing regulations, and after consultation with the appropriate Indian Tribes and Native Hawaiian organizations, the University of Montana has determined that:

• The human remains described in this notice represent the physical remains of four individuals of Native American ancestry.

• There is a relationship of shared group identity that can be reasonably traced between the human remains described in this notice and the Three Affiliated Tribes of the Fort Berthold Reservation, North Dakota.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 22, 2023. If competing requests for repatriation are received, the University of Montana must determine the most appropriate requestor prior to repatriation. Requests for joint repatriation of the human remains are considered a single request and not competing requests. The University of Montana is responsible for sending a copy of this notice to the Indian Tribe identified in this notice.

Authority: Native American Graves Protection and Repatriation Act, 25 U.S.C. 3003, and the implementing regulations, 43 CFR 10.9, 10.10, and 10.14.

Dated: October 11, 2023.
Melanie O'Brien,
Manager, National NAGPRA Program.

[FR Doc. 2023-23287 Filed 10-20-23; 8:45 am]

BILLING CODE 4312-52-P